DEPARTMENT OF THE INTERIOR

Bureau of Land Management

DEPARTMENT OF AGRICULTURE

Forest Service

DEPARTMENT OF ENERGY

[14X L1109AF LLWO300000 L14300000 PN0000]

Request for Information: West-Wide Energy Corridor Review

AGENCY: Bureau of Land Management, Interior; Forest Service, USDA; Office of Electricity Delivery and Energy Reliability, DOE.

ACTION: Notice.

SUMMARY: The U.S. Department of the Interior (DOI), Bureau of Land Management (BLM); U.S. Department of Agriculture, U.S. Forest Service (FS); and the U.S. Department of Energy (DOE), Office of Electricity Delivery and Energy Reliability, are seeking the information described in this notice related to the West-wide Energy Corridor Review.

DATES: Comments must be submitted by May 27, 2014.

ADDRESSES: You may submit comments electronically to 368corridors@blm.gov. Entire comments, including any personal identifying information, may be made publicly available upon request. While respondents may request that personal identifying information be withheld from the public, the BLM, FS, and DOE (Agencies) cannot guarantee that they will be able to do so.

FOR FURTHER INFORMATION CONTACT: Stephen Fusilier, BLM, at 202-912-7426 or by email at sfusilie@blm.gov. Persons who use a telecommunications device for the deaf may call the Federal Information Relay Service at 800-877-8339 to contact Mr. Fusilier during normal business hours. The FIRS is available 24 hours per day, 7 days per week. You will receive a reply during normal business hours.

SUPPLEMENTARY INFORMATION: On August 8, 2005, the President signed into law the Energy Policy Act of 2005 (EPAct) (42 U.S.C. 15801 et seq.). In Section 368 of the EPAct (42 U.S.C. 15926), Congress directed the Secretaries of Agriculture, Commerce, Defense, Energy, and the Interior (the Secretaries) to designate corridors for oil, gas, and hydrogen pipelines and electrical transmission and distribution facilities on Federal lands in the 11 contiguous Western states (Section 368 Corridors). The Secretaries were also directed to perform any environmental reviews required to complete the designation of Section 368 Corridors, incorporate the Section 368 Corridors into land use plans, and establish a process for identifying new Section 368 Corridors.

On January 14, 2009, the DOI approved a record of decision (ROD) that amended 92 BLM land use plans and designated approximately 5,000 miles of Section 368 Corridors on BLM-administered lands. The affected States are Arizona, California, Colorado, Idaho, Montana, Nevada, New Mexico, Oregon, Utah, Washington, and Wyoming. The FS issued a ROD on January 14, 2009, which amended 38 FS land use plans and designated approximately 990 miles of Section 368 Corridors on National Forest System lands in 10 states. Both RODs adopted mandatory interagency operating procedures (IOP) for projects sited within the Section 368 Corridors.

On July 7, 2009, several nonprofit organizations filed a complaint in the United States District Court for the Northern District of California, Wilderness Society v. United States Department of the Interior, No. 3:09-cv-03048-JW, challenging the DOI and FS RODs pursuant to the EPAct, National Environmental Policy Act, Endangered Species Act, and the Administrative Procedure Act.

On July 11, 2012, the court approved a settlement agreement (Settlement) and dismissed the case. The Settlement set forth five provisions with the objective of ensuring that future Section 368 Corridor revisions, deletions, and additions consider the following principles: Location of Section 368 Corridors in favorable landscapes; facilitation of renewable energy projects where feasible; avoidance of environmentally sensitive areas to the maximum extent practicable; diminution of the proliferation of dispersed rights-of-way crossing the landscape; and improvement of the long-term benefits of reliable and safe transmission. The Settlement also provides that public input and an open and transparent process with engagement by tribes, States, local governments, and other interested parties occur as part of the process for making potential revisions, deletions, or additions to Section 368 Corridors.

Two of the Settlement provisions are relevant to this RFI: (1) Preparation of regional periodic reviews of designated Section 368 Corridors (Regional Periodic Reviews) and reviews of IOPs; and (2) Development of a corridor study to assess the overall usefulness of the Section 368 Corridors (Section 368 Corridor Study). Information referenced in this RFI can be found at http://corridoreis.anl.gov.

Purpose of the RFI

The purpose of this RFI is to solicit information that will assist the Agencies in the development of the Section 368 Corridor Study and provide the foundation for the initial Regional Periodic Review. In particular, the Agencies seek responses to the questions posed in the sections below. All work described in the Work Plan and Memorandum of Understanding (MOU) is contingent upon the availability of appropriated funds.

Section 368 Corridor Study

On July 7, 2013, the Agencies finalized a Corridor Study Work Plan for the Section 368 Corridors (Work Plan). The Work Plan identifies how information will be gathered and analyzed and establishes a schedule for completion of the Section 368 Corridor Study. Under the Section 368 Corridor Study, the Agencies will study Section 368 Corridors to assess their overall usefulness with regard to various factors, including their effectiveness in reducing the proliferation of dispersed rights-of-way across Federal lands. The Agencies will also assess the efficiency and effectiveness of the Section 368 Corridors and record lessons learned in the siting process. The Section 368 Corridor Study will also:

• Identify where corridors are being over- or underutilized and evaluate use of the IOPs;

• Focus on information relating to the use of Section 368 Corridors that is publicly available at the time the Agencies initiate the Section 368 Corridor Study;

• Help to inform the Regional Periodic Reviews and review of the IOPs; and

• Be made public upon completion.

(1) Updates to Spatial Data. A geographic information system (GIS) was used to support the mapping and location-specific analyses in the Final West-wide Energy Corridor Programmatic Environmental Impact Statement (EIS). GIS databases contain spatial data including imagery, map graphics, and associated tabular data, and GIS software allows for storing, processing, analyzing, modeling, and visualizing the spatial data. Lists of the GIS data that were used for the analyses and maps in the Programmatic EIS as well as the sources, quality, and scale of the data are posted at http://corridoreis.anl.gov (Appendix I of the Programmatic EIS and Appendix A of the Work Plan). Under the Section 368 Corridor Study, the Agencies will update the Programmatic EIS data using compatible, publicly available data. The Agencies are interested in suggestions of new or updated compatible, publicly available data that may be utilized to inform the Section 368 Corridor Study. Are there any new or updated data that is publicly available?

(2) Types of Authorized Projects to Consider. The Agencies propose to focus on 100 kilovolt (kV) or higher electric transmission lines and oil, gas, and hydrogen pipelines, 10 inches or more in diameter that have been authorized on Federal lands (both inside and outside of Section 368 Corridors) since approval of the DOI and FS RODs. The purposes of assessing the use of Section 368 Corridors is to evaluate their effectiveness in improving reliability, relieving congestion, and enhancing the capability of the national grid to deliver electricity across Federal lands and to evaluate IOPs for the Section 368 Corridor Study. Are there any other types of projects that the Agencies should consider to assess use of Section 368 Corridors?

(3) Methods for Assessing Effectiveness of IOPs. The Agencies will compile information relating to the use of IOPs for projects authorized since approval of the RODs, potentially by project type, based on consideration of projects identified in response to question 2 that are located entirely or partially within a Section 368 Corridor. Are there methods the Agencies should consider using to evaluate the effectiveness of the IOPs?

Regional Periodic Review

On July 7, 2013, the Agencies entered into an MOU describing the process for conducting Regional Periodic Reviews, including concurrent review of IOPs. The Agencies will identify and prioritize regions for periodic review.

(1) New Relevant Information. In accordance with the MOU, as a part of the Regional Periodic Reviews (including review of IOPs), the Agencies will consider new, relevant information. In general, the Agencies will consider significant regional energy development and corridor and transmission plans or studies, which are supplemented by project-specific studies that were completed after January 2009 or that are substantially underway. Examples of new information the Agencies will consider include the following:

• Results of: (1) Joint studies of electric transmission needs and renewable energy potential being conducted by the Western Electricity Coordinating Council and the Western Governors' Association (WGA) and funded by the DOE; and (2) The DOE's Transmission Corridor Assessment Report for Western States (DOE Corridor Study). These studies address the need for upgraded and new electrical transmission and distribution facilities to improve reliability, relieve congestion, and facilitate renewable energy development. The DOE Corridor Study is addressed in the June 7, 2013, Presidential Memorandum, “Transforming our Nation's Electric Grid Through Improved Siting, Permitting, and Review,” available at http://www.whitehouse.gov/the-press-office/2013/06/07/presidential-memorandum-transforming-our-nations-electric-grid-through-i.

• Results of the BLM's Rapid Ecoregional Assessments that characterize ecological values across regional landscapes;

• Once completed, the results of the Section 368 Corridor Study and review of the IOPs;

• Results of other ongoing resource studies, such as the WGA wildlife corridor study, the BLM's and FS's National Sage-Grouse Habitat Conservation Strategy, and the State of Wyoming's sage grouse strategy;

• Other factors, such as States' renewable portfolio standards, that address potential energy demand, sources, and loads, with particular regard to renewable energy;

• The BLM's Approved Resource Management Plan Amendments/ROD for Solar Energy Development in Six Southwestern States based on the joint BLM and DOE 2012 Solar Energy Development Programmatic EIS that assessed the environmental, social, and economic impacts associated with solar energy development on BLM-managed lands in Arizona, California, Colorado, Nevada, New Mexico, and Utah. The ROD amends 89 BLM land use plans incorporating land use allocations and programmatic Solar Energy Zone-specific design features; updates and revises policies and procedures for solar energy development; and implements a comprehensive solar energy program for administering the development of utility-scale solar energy resources in 6 southwestern states;

• The BLM Arizona Restoration Design Energy Project Final EIS and ROD issued in January 2013;

• Information from the Desert Renewable Energy Conservation Plan Draft EIS/Environmental Impact Report scheduled for release in 2014;

• The BLM/FS Greater Sage-Grouse Sub-Regional Planning Areas that overlie Section 368 Corridors;

• Draft and Final EISs, land use plan amendments, and related studies for pipelines 10 inches or more in diameter and 100 kV or higher electric transmission lines that utilize Section 368 Corridors;

• The National Renewable Energy Laboratory's Renewable Energy Futures Study Report (2012); and

• New IOPs submitted by the Plaintiffs who are a party to the Settlement.

Is there any other publicly available information that the Agencies should consider as part of the initial Regional Periodic Review, including review of the IOPs, and if so, where or how can it be found, and what parts of it are relevant to this RFI?

(2) Identification of New Requirements. Are there any laws, regulations, or other requirements that have been implemented since issuance of the DOI and FS RODs in January 2009 that the Agencies should consider when reviewing Section 368 Corridors?

(3) Identification of Regional Stakeholder Fora. The Agencies have identified an initial list of existing regional stakeholder fora as possible options for stakeholder engagement during Regional Periodic Reviews (e.g., BLM and FS Resource Advisory Councils, the Western Electricity Coordinating Council, Landscape Conservation Cooperatives, Western Governors' Association, and the Indian Country Energy and Infrastructure Working Group, which was established to work collaboratively with the DOE). Are there any additional regional stakeholder fora that the Agencies should consider for stakeholder engagement during Regional Periodic Reviews?

(4) Changes to IOPs. Are there any additions, deletions, or revisions the Agencies should consider making to the IOPs that were adopted in the DOI and FS RODs, and what is the rationale for those changes?

(5) Comments on New IOPs. The Agencies have committed to consideration of new IOPs submitted by the Plaintiffs who are parties to the Settlement. The new IOPs are available at http://corridoreis.anl.gov Are there any comments on these new IOPs?

Michael D. Nedd,
Assistant Director, Energy, Minerals, and Realty Management, Bureau of Land Management, U.S. Department of the Interior.
Tony L. Tooke,
Associate Deputy Chief, National Forest System, U.S. Forest Service, U.S. Department of Agriculture.
Matt Rosenbaum,
Acting Director National Electricity Delivery, Office of Electricity Delivery and Energy Reliability, U.S. Department of Energy.

[FR Doc. 2014-06945 Filed 3-27-14; 8:45 am]

BILLING CODE 4310-84-P